DEPARTMENT OF ENERGY

National Energy Technology Laboratory; Notice of Availability of a Financial Assistance Solicitation

AGENCY: National Energy Technology Laboratory, Department of Energy (DOE).

ACTION: Notice of availability of a Financial Assistance Solicitation.

SUMMARY: Notice is hereby given of the intent to issue Financial Assistance Solicitation No. DE-PS26-03NT15392-0 entitled “Microhole Technology Development.” The Department of Energy (DOE), National Energy Technology Laboratory's (NETL) National Petroleum Technology Office (NPTO) is seeking applications for cost-shared development and demonstration projects using microhole technologies in the United States.

DATES: The solicitation will be available on the “Industry Interactive Procurement System” (IIPS) webpage located at http://e-center.doe.gov on or about September 30, 2003. Applicants can obtain access to the solicitation from the address above or through DOE/NETL's website at http://www.netl.doe.gov/business.

FOR FURTHER INFORMATION CONTACT: Keith R. Miles, MS 921-166, U.S. Department of Energy, National Energy Technology Laboratory, 626 Cochrans Mill Road, PO Box 10940, Pittsburgh, PA 15236-0940. E-mail Address: miles@netl.doe.gov. Telephone Number: 412-386-5984.

SUPPLEMENTARY INFORMATION: The goal of this Microhole Technology (MHT) solicitation is to support Reservoir Life Extension/Domestic Resource Conservation by facilitating exploration and production companies in the effort to find, characterize and develop shallow domestic oil and natural gas resources inexpensively. The purpose of this solicitation is to demonstrate present MHT capabilities and development of missing key MHT components. Microhole Technology will consist of the techniques and tools used to drill, complete and characterize reservoirs 5,000 feet deep in a 3½″ diameter borehole. Microhole drilling will use a coiled tubing drilling rig and appropriate Logging While Drilling (LWD), Measurement While Drilling (MWD), Directional Assembly (DA) and Positive Displacement Motor (PDM) to eventually drill a 3½″ borehole to a minimum of 5,000 feet True Vertical Depth (TVD) and a minimum 1,000 feet directional displacement from the surface well location. Microhole completion equipment are those items necessary to run, set and cement casing and the associated downhole tubulars (packers, sleeves, nipples, screens, etc.), surface wellhead, perforation tools and stimulation tools. Microhole reservoir characterization equipment includes Vertical Seismic Profiling (VSP) and downhole reservoir sensors. Some of the Microhole Technology parts exist and are now in use in coiled tubing and slimhole drilling. The program is open to any business, educational institution or state agency and is for the benefit of the domestic oil industry.

The two solicitation Areas of Interest are described below.

Area of Interest 1: DE-PS26-03NT15392-1: Field Demonstration

Projects in Area 1 promote the National Energy Policy goal of enhanced oil and gas recovery with advanced technology. Applications in Area 1 will be drilling programs that demonstrate current microhole technologies in different geographic regions of the United States. Area 1 will accept drilling program applications with a minimum 50% cost share for drilling new or extending existing wells using a coiled tubing drilling system. Each drilling program must have a minimum of three wells. Approximately three applications will be funded. The successful awards will be with different E&P companies in diverse geographic locations. A coiled tubing drilling system must be used to drill the last length of hole. This hole will be no more than 4¾″ diameter and no less than 1,000 feet long. Applications must include an economic analysis of coiled tubing drilling versus rotary drilling and overall economics of the drilling program. Technology transfer of the drilling program results will be a requirement.

Area of Interest 2: DE-PS26-03NT15392-2: Technology Development

Applications submitted under Area 2 must target one (1) of four (4) specific technical topics (shown below) for the development and manufacture of equipment required to fulfill the Microhole Technology goal. This equipment will be an evolutionary advance over existing designs. Applications must include conceptual drawings, basic engineering design specifications, Quality Control standards, corporate history, product test capabilities and proposed test standards. Proposed equipment will complement the Microhole Technology goal of drilling, completing and characterizing reservoirs a minimum of 5,000 feet TVD and 1,000 feet directional displacement in a 3½″ borehole. All component applications must be compatible with the Microhole Coiled Tubing Rig. DOE personnel will coordinate compatibility issues between manufacturers. A 20% cost share is required for any Area 2 application.

Applications for Area 2 must target only one (1) of the following four (4) topics:

1. Built for purpose Microhole Coiled Tubing Rig (MCTR). The MCTR will handle 1″ through 2⅜″ coiled tubing. The rig will be able to drill and case surface, intermediate, production and liner hole intervals. The rig will be able to drill with coiled tubing and conventional rotary or top drive. The rig will be able to run at a minimum 7⅝″ range 2 casing. The MCTR may be truck, trailer or skid mounted and meet USDOT limitations. The MCTR may be more than one load. If skid mounted the rig must be helitransportable. The MCTR must be readily adaptable to support low-cost directional drilling and through-tubing micro-lateral drilling from existing wells. The MCTR must be able to drill with low density, compressible drilling fluids. The MCTR design will facilitate quick reel or coiled tubing changes in the field.

2. Self contained “zero discharge” drilling mud system. The mud system may be truck, trailer or skid mounted and meet USDOT limitations. If skid mounted it will be helitransportable. The mud system may be more than one load. The mud system will be compatible with the MCTR. The mud system will be able to mix, circulate downhole, clean and hold diesel or water based drilling mud. The mud system will have a minimum 200 bbl total capacity with active, reserve and trip tanks. The mud pump will be from a standard oilfield equipment manufacturer and be capable of circulating 15 gpm at 5,000 psi and 500 gpm at 1,000 psi. The mud system will have a solids control system capable of continuously separating the drill solids and “fine” low gravity drill solids. The mud system must be compatible with an underbalanced drilling system.

3. Microhole Coiled Tubing Bottom Hole Assemblies. MWD, LWD, DA and PDM suitable for drilling 3½″ boreholes. Applications may be for all or any portion of these Bottom Hole Assemblies.

4. Microhole Cementing Equipment. Cementing float shoe, collar, wiper plugs and cement head/plug launcher for 2⅞″, 2⅜″, 2″ and 1¾″ coiled tubing.

Once released, the solicitation will be available for downloading from the IIPS Internet page. At this Internet site you will also be able to register with IIPS, enabling you to submit an application. If you need technical assistance in registering or for any other IIPS function, call the IIPS Help Desk at (800) 683-0751 or E-mail the Help Desk personnel at IIPS_HelpDesk@e-center.doe.gov. The solicitation will only be made available in IIPS, no hard (paper) copies of the solicitation and related documents will be made available. Telephone requests, written requests, E-mail requests, or facsimile requests for a copy of the solicitation package will not be accepted and/or honored. Applications must be prepared and submitted in accordance with the instructions and forms contained in the solicitation. The actual solicitation document will allow for requests for explanation and/or interpretation.

Issued in Pittsburgh, PA on September 3, 2003.
Dale A. Siciliano,
Director, Acquisition and Assistance Division.

[FR Doc. 03-23419 Filed 9-12-03; 8:45 am]

BILLING CODE 6450-01-P